DEPARTMENT OF COMMERCE

International Trade Administration

Initiation of Antidumping and Countervailing Duty Administrative Reviews

AGENCY: Import Administration, International Trade Administration, Department of Commerce.

ACTION: Notice of initiation of antidumping and countervailing duty administrative reviews.

SUMMARY: The Department of Commerce (“the Department”) has received requests to conduct administrative reviews of various antidumping and countervailing duty orders and findings with May anniversary dates. In accordance with the Department's regulations, we are initiating those administrative reviews.

DATES: Effective Date: July 3, 2006.

FOR FURTHER INFORMATION CONTACT: Sheila E. Forbes, Office of AD/CVD Operations, Office 4, Import Administration, International Trade Administration, U.S. Department of Commerce, 14th Street and Constitution Avenue, NW., Washington, DC 20230, telephone: (202) 482-4697.

SUPPLEMENTARY INFORMATION:

Background

The Department has received timely requests, in accordance with 19 CFR 351.213(b), for administrative reviews of various antidumping and countervailing duty orders and findings with May anniversary dates.

Initiation of Reviews

In accordance with 19 CFR 351.221(c)(1)(i), we are initiating administrative reviews of the following antidumping and countervailing duty orders and findings. We intend to issue the final results of these reviews not later than May 31, 2007.

| Period to be reviewed
Antidumping Duty Proceedings
Belgium: Stainless Steel Plate in Coils, A-423-808 | 5/1/05-4/30/06
Ugine & ALZ Belgium
Canada: Certain Softwood Lumber ¹, A-122-838 | 5/1/05-4/30/06
465016 BC Ltd. (aka 465016 Ltd.)
582912 BC Ltd. (dba Paragon Wood Products Lumby)
582912 BC Ltd. (dba Paragon Wood-Lumby Div.)
Abitibi-Consolidated Company of Canada
Abitibi-Consolidated Inc.
Abitibi-LP Engineered Wood II Inc.
Abitibi-LP Engineered Wood Inc.
AJ Forest Products Ltd.
Alberta Spruce Industries, Ltd.
Alexandre Cote Ltee.
Allmac Lumber Sales Ltd.
Allmar International
Alpa Lumber Mills Inc.
Alpine Forest Trading Inc.
American Bayridge Corporation
Anderson Pacific Forest Products Ltd.
Apollo Forest Products Ltd.
Aquila Cedar Products Ltd.
Arbec Forest Products Inc.
Arbutus Manufacturing Ltd.
Armand Duhamel & Fils Inc.
Aspen Planers Ltd.
Atco Lumber Ltd.
Atikokan Forest Products Ltd.
Atlantic Warehousing Ltd.
Atlas Lumber Alberta Ltd.
AWL Forest Products
B & L Forest Products Ltd.
Bakerview Forest Products Inc.
Bardeaux et Cedres St-Honore Inc.
Barette-Chapais Ltee.
Barrett Lumber Company (Barrett Lumber Company Limited)
Barry Maedel Woods & Timber
Bathurst Lumber
Bathurst Lumber, Division of UPM-Kymmene Miramichi Inc.
Bayside Reman Services, Ltd.
Beaubois Coaticook Inc.
Bel Air Forest Products Inc.
Bel Air Lumber Mills, Inc.
Bermorg LLC
Bishop Lumber Co. Ltd.
Blackville Lumber
Blackville Lumber, Division of UPM Miramichi
Blackville Lumber, Division of UPM-Kymmene Miramichi Inc.
Blanchette et Blanchette Inc. (Blanchette & Blanchette Inc.)
Bois Bonsai Inc.
Bois BSL Inc.
Bois Cobodex (1995) Inc.
Bois De L'est FB Inc.
Bois d'oeuvre Cedrico inc. (Cedrico Lumber Inc.)
Bois Fontaine Inc.
Bois Granval G.D.S. Inc.
Bois Kheops Inc.
Bois Marsoui G.D.S. Inc.
Bois Neos Inc.
Bois Nor Que Wood Inc.
Bois Omega Ltee.
Boisaco Inc.
Bonnyman & Byers Limited (Bonnyman & Byers Ltd.)
Boscus Canada Inc.
Boucher Bros. Lumber Ltd.
Bowater Canadian Forest Products Incorporated
Bowater Incorporated
Bridgeside Forest Industries Ltd. (Bridgeside Higa Forest Industries, Ltd.)
Brink Forest Products Ltd.
Brittania Lumber Company Limited
Brown & Rutherford Co. Ltd.
Brunswick Valley Lumber Inc. (Brunswick Valley Lumber)
Buchanan Distribution Inc.
Buchanan Forest Products Ltd.
Buchanan Lumber
Buchanan Lumber Sales Inc.
Buchanan Northern Hardwoods Inc.
Burrows Lumber Inc.
Burrows Lumber (US) Inc.
Busque & Laflamme Inc.
BW Creative Wood Industries Ltd.
Byrnexco Inc.
C & C Lath Mill Ltd.
C&C Wood Products Ltd.
C.E. Harrison & Sons Limited (C. Ernest Harrison & Sons Ltd.)
Caledonia Forest Products Ltd.
Cambie Cedar Products Ltd.
Canadian Forest Products Ltd.
Canadian Forest Products Ltd., Uneeda Wood Products Division
Canadian Lumber Company Ltd.
Canadian Overseas Log & Lumber, Ltd.
Canasia Forest Industries Ltd
Canfor Corporation
Canfor Uneeda/Uneeda Wood Products
Canfor Wood Products Marketing Ltd.
CanWel Building Materials Ltd.
Canyon Lumber Company Ltd.
Cardinal Lumber Manufacturing and Sales Inc.
Careau Bois Inc.
Carrier & Begin Inc.
Carrier Forest Products Ltd.
Carrier Lumber Ltd.
Carson Lake Lumber Limited
Cascadia Forest Products Ltd.
Cattermole Timber
CDS Lumber Products Ltd.
Cedartone Specialties Ltd.
Central Cedar Ltd.
Centurion Lumber Manufacturing (1983) Ltd.
Chaleur Sawmills Associes (Chaleur Sawmills, Chaleur Sawmills Associates, Scierie Chaleur Associes)
Chasyn Wood Technologies Inc.
Cheslatta Forest Products Ltd.
Chipman Sawmill Inc.
Choicewood Products Inc.
City Lumber Sales & Services Limited
Clair Industrial Development Corp. Ltd.
Claude Forget Inc.
Clermond Hamel Ltee.
Clotures Rustiques L.g. Inc.
Coast Clear Wood Ltd.
Colonial Fence MFG. Ltd. (Colonial Fence Mfg. Ltd.)
Comeau Lumber Ltd. (Comeau Lumber Limited)
Commonwealth Plywood Co. Ltd. (dba Bois Clo-Val, Les Entreprises Atlas, and W.C. Edwards Lumber)
Cooper Creek Cedar Ltd.
Cottle's Island Lumber Co. Ltd. (Cottles Island Lumber Company Limited)
Coulsen Manufacturing Ltd.
Cowichan Lumber Ltd.
Crystal Forest Industries Ltd.
Cushman Lumber Company Inc.
Cushman Lumber Company Ltd.
D.S. Lumber Sales Ltd.
Daaquam Lumber Inc. (aka Bois Daaquam Inc.)
Dakeryn Industries Ltd.
Davron Forest Products Ltd.
Deep Cove Forest Products
Deep Cove Lumber
Delco Forest Products Ltd.
Delta Cedar Products
Delta Pacific Lumber Sales, Inc.
Deniso Lebel Inc.
Devon Lumber Co. Ltd.
Doman Forest Products Limited
Doman Industries Limited
Doman-western Lumber Ltd.
Domexport, Inc.
Domino Forest Products Inc.
Domtar Inc.
Doubletree Forest Products Company Ltd.
Downie Timber Ltd.
Dubreuil Forest Products Limited
Dunkley Lumber Ltd.
E. Stirling Wood Products Ltd.
E. Tremblay et fils ltee. (aka Scierie Tremblay)
Eacan Timber Canada Ltd.
Eacan Timber Ltd. (Eacan Timber Limited)
Eacan Timber USA Ltd.
East Fraser Fiber Co., Ltd.
Eastwood Forest Products Inc.
Ed Bobcel Lumber 1993 Ltd.
Edwin Blaikie Lumber Ltd.
Elmira Wood Products
Elmsdale Lumber Co., Ltd. (Elmsdale Lumber Company)
ER Probyn Export Ltd.
Errington Cedar Products Ltd.
Excel Forest Products
F W Taylor Lumber Company
F.L. Bodogh Lumber Co. Ltd.
Falcon Lumber Limited
Faulkener Wood Specialties Ltd.
Fawcett Lumber Co.
Fawcett Quality Lumber Products
Federated Co-operatives Limited
Felix Wood Products of Canada
Fenclo Ltee.
Finmac Lumber Limited
Fletcher Lumber
Fontaine Inc. (dba J.A. Fontaine et fils Incorporee)
Foothills Forest Products Inc.
Forest Products Northwest, Inc.
Forex Log & Lumber, Ltd.
Fort St. James Forest Products Ltd.
Forwest Wood Specialties Inc.
Forwood Forest Products Inc.
FPS Canada Inc.
Fraser Pacific Forest Products Inc.
Fraser Pacific Lumber Company
Fraser Papers Inc.
Fraser Plaster Rock
Fraser Pulp Chips Ltd.
Fraser Timber Limited
Fraserview Cedar Products Ltd.
Fraserwood Industries Ltd.
G.A. Grier (1991) Inc. (G.A. Grier 1991 Inc.)
G.A.G. Sales, Inc. (G.A.G. Sales Inc.)
G.D.S. Valoribois Inc.
G.L. Sawmill Ltd.
Galloway Lumber Co. Ltd.
Gerard Crete & Fils Inc. (aka Gerard Crete & Sons Inc.)
Gestion Natanis Inc.
Gestion S. Crete Inc.
Gestofor, Inc.
Gilbert Smith Forest Products Ltd.
Goldwood Industries Ltd.
Goodfellow Inc.
Gordon Buchanan Enterprises Ltd.
Gorman Bros. Lumber Ltd.
Great Lakes MSR Lumber Ltd.
Great West Timber Limited
Greenwood Forest Products (1983) Ltd.
Groupe Lebel (2004) Inc.
H.A. Fawcett & Son Limited
H.J. Crabbe & Sons Ltd.
H.S. Bartram (1984) LTD
Haida Forest Products Ltd.
Hainesville Sawmill Ltd.
Halo Sawmill Limited Partnership
Halo Sawmills
Hanson's Sawmill
Harry Freeman & Son Limited (Harry Freeman and Son Limited, Harry Freeman & Son Ltd., Harry Freeman & Sons Ltd.)
Hawk Brothers Lumber Co., Ltd.
Hefler Forest Products Ltd.
Herridge Trucking & Sawmilling Ltd.
Hi-Knoll Cedar Inc.
Hilmoe Forest Products Ltd.
Holdright Lumber Products Limited
Howe Sound Forest Products (2005) Ltd.
Hudson Mitchell & Sons Lumber Inc.
Hughes Lumber Specialties Inc.
Hy Mark Wood Products Inc.
Hyak Specialty Wood Products Ltd.
Industrie Bois Lamontagne Inc.
Industries G.D.S. Inc.
Industries P.F. Inc.
Industries Perron Inc.
International Forest Products Ltd.
International Forest Products Ltd. (Interfor), MacKenzie Sezai Division
Interpac Log & Lumber Ltd.
Iron Mountain Trading Inc.
Ivor Forest Products Ltd.
J&G Log and Lumber Ltd.
J&G Log Works Ltd.
J.A. Turner & Sons (1987) Limited (J.A. Turner & Sons (1987) Ltd.)
J.D. Irving, Limited
J.H. Huscroft Ltd.
J.S. Jones Timber
Jackpine Engineered Wood Products
Jackpine Forest Products Ltd.
Jackpine Group of Companies
Jamestown Lumber Company Limited (Jamestown Lumber Company Ltd., Jamestown Lumber Co. Ltd.)
Jasco Forest Products Ltd.
Jeffrey Hanson
John W. Jamer Ltd.
JR Remanufacturing Inc.
Kalesnikoff Lumber Co. Ltd.
Kebois Limited (Kebois Ltee)
Kenora Forest Products Ltd.
Kenwood Lumber Ltd.
Kermode Forest Products Ltd.
Kispiox Forest Products Ltd.
Kitwanga Lumber Company
Kitwanga Mills Ltd
Kootenay Innovative Wood Ltd.
KP Wood Ltd.
Kruger, Inc.
Krystal Klear Marketing Inc.
L&M Lumber Ltd.
La Crete Sawmills Ltd.
Lafontaine Lumber Inc.
Lakeland Mills Ltd.
Lakeside Timber Ltd.
Lamco Forest Products
Landmark Truss & Lumber Inc.
Langevin Forest Products, Inc.
Langley Timber Ltd
Lattes Waska Laths Inc.
Lawsons Lumber Company Ltd.
Lecours Lumber Co. Limited
Ledwidge Lumber Co., Ltd.
Leggett & Platt (B.C.) Ltd.
Leggett & Platt Canada Co.
Leggett & Platt Ltd.
Leggett & Platt, Inc.
LeggettWood
Leonard Ellen Canada (1991) Inc.
Les Bois d'Oeuvre Beaudoin & Gauthier
Les Bois Indifor Lumber Inc.
Les Bois K-7 Lumber Inc.
Les Bois Lac Frontiere Inc.
Les Bois S&P Grondin Inc. (aka Les Bois Grondin Inc.)
Les Chantiers Chibougamau Ltee
Les Pallettes BB Inc. (aka B.B. Pallets Inc.)
Les Placements Jean-paul Fontaine Ltee
Les Produits Forestiers D.G. Ltee
Les produits forestiers Dube inc. (Dube Forest Products)
Les Produits Forestiers F.B.M. Inc.
Les Produits Forestiers Miradas Inc. (aka Miradas Forest Products Inc.)
Les Scieries du Lac St-Jean Inc.
Les Scieries J. Lavoie Inc.
Leslie Forest Products Ltd.
Ligni Bel Ltd.
Lignum Ltd.
Lindal Cedar Homes Company
Lindsay Lumber Ltd.
Liskeard Lumber Limited
Long Lake Forest Products Inc.
Long Lake Forest Products Inc. (Nakina Division)
Louisiana-Pacific Canada Ltd.
Louisiana-Pacific Corporation
Lulumco inc.
LumberPlus Industries Inc.
Lyle Forest Products Ltd.
M & G Higgins Lumber Ltd.
M.L. Wilkins & Son Ltd. (M.L. Wilkins and Son Ltd.)
MacTara Limited
Maedel Wood & Timber Sales (div. of T.S.P. Systems Ltd.)
Maher Forest Products, Ltd.
Maibec Industries Inc. (aka Industries Maibec Inc.)
Mainland Sawmill
Mainland Sawmill (Division of Terminal Forest Products)
Manitou Forest Products Ltd.
Manning Diversified Forest Products Ltd.
Maple Creek Saw Mills Inc.
Marcel Lauzon Inc.
Marine Way Industries Inc.
Marwood Ltd.
Marwood Ltd.—Central Blissville
Materiaux Blanchet Inc.
Max Meilleur et fils ltee
McKenzie Forest Products Inc.
MDFP Sales
MF Bernard Inc.
Mid America Lumber
Mid Valley Lumber Specialties Ltd.
Midway Lumber Mills Ltd.
Mill & Timber Products Ltd.
Millar Western Forest Products Ltd.
Millco Wood Products Ltd.
Miramichi Lumber Products
Mirax Lumber Products Ltd.
Mobilier Rustique (Beauce) Inc.
Monterra Lumber Mills Limited
Mountain View Specialties
Mountain View Specialty Products Inc.
MPH Forest Products Ltd.
Murray Bros. Lumber Company Limited
N.F. Douglas Lumber Ltd. (N.F. Douglas Lumber Limited)
Nechako Lumber Co., Ltd.
Newcastle Lumber Co., Inc.
Nexfor Inc.
Nicholson and Cates Limited
Nickel Lake Lumber
Noble Custom Cut Ltd.
Norbord Industries Inc.
NorSask Forest Products Inc
North American Forest Products Ltd.
North American Forest Products Ltd. (Belanger Division)
North American Hardwoods Ltd.
North Atlantic Lumber Inc.
North Enderby Distribution Ltd.
North Enderby Timber Ltd.
North Mitchell Lumber Company Ltd.
North of 50
North Shore Timber Ltd.
North Star Wholesale Lumber Ltd.
Northern Sawmills Inc.
Northland Forest Products Ltd.
Northwest Specialty Lumber
Olav Haavaldsrud Timber Company Limited
Olympic Industries Inc.
Optibois Inc.
Oregon Canadian Forest Products
P. Proulx Forest Products Inc. (aka Proulx, Proulx Forest Products Inc., and Produits Forestiers P. Proulx Inc.)
Pacific Coast Timber Inc.
Pacific Lumber Company
Pacific Lumber Remanufacturing Inc.
Pacific Specialty Wood Products Ltd. (Clearwood Industries Inc.)
Pallan Timber Products (2000) Ltd.
Pallan Timber Products Ltd.
Palliser Lumber Sales Ltd.
Parallel Wood Products, Ltd.
Pat Power Forest Products Corporation
Patrick Lumber Company
Paul Vallee Inc.
Peak Forest Products Ltd.
Pharlap Forest Products Inc.
Phoenix Forest Products Inc.
Pope & Talbot Inc. (and its wholly owned subsidiary Pope & Talbot Ltd.)
Porcupine Wood Products Ltd.
Port Moody Timber Ltd.
Portbec Forest Products Ltd. (aka Les Produits Forestiers Portbec Ltee.)
Power Wood Corp.
Precibois Inc.
Preparabois Inc.
Produits Forestiers Berscifor Inc.
Produits Forestiers La Tuque Inc.
Produits Forestiers Petit-Paris Inc.
Produits Forestiers Saguenay Inc.
PRO-Lumber Inc. (Pro-Lumber Inc., Pro Lumber Inc.)
Promobois G.D.S. Inc.
Prudential Forest Products Limited
Quadra Wood Products Ltd.
R. Fryer Forest Products Limited
Raintree Lumber Specialties Ltd.
Ratcliff Forest Products Inc.
Redtree Cedar Products Ltd.
Redwood Value Added Products, Inc.
Rembos Inc.
Rene Bernard Inc.
RichWood Trading Ltd.
Ridge Cedar Ltd.
RIDGETIMBER Trading Inc.
RIDGETIMBER Trading Ltd.
Ridgewood Forest Products Limited
Rielly Industrial Lumber Inc.
Riverside Forest Products Ltd.
Riverside Marketing and Sales
Rojac Cedar Products Inc.
Rojac Enterprises Inc.
Roland Boulanger & Cie Ltee
Russell White Lumber Limited
S&R Sawmills Ltd.
Salmon Arm
Saran Cedar
Sauder Industries Limited
Sauder Industries Ltd.—Cowichan Division
Sawarne Lumber Co. Ltd.
Scierie A&M St-Pierre Inc.
Scierie Adrien Arseneault Ltee.
Scierie Alexandre Lemay et fils inc.
Scierie Dion et fils Inc.
Scierie Duhamel Sawmill Inc.
Scierie Gallichan
Scierie Gauthier Ltee
Scierie La Patrie, Inc.
Scierie Landrienne, Inc.
Scierie Lapointe & Roy Ltee
Scierie Leduc, Division of Stadacona L.P.
Scierie Leduc, Division of Stadaconia Inc.
Scierie Norbois Inc. | Scierie Nord-Sud (North-South Sawmill Inc.) | Scierie St-Elzear Inc. | Scierie Tech | Scierie West Brome Inc. | Scieries du Lac St. Jean Inc. | Seed Timber Co. Ltd. | Selkirk Specialty Wood Ltd. | Sexton Lumber Co. Limited | Seycove Forest Products Limited | Seymour Creek Cedar Products Ltd. | Shawood Lumber Inc. | Sigurdson Bros. Logging Company Ltd. (aka Sigurdson Brothers Logging Company Ltd.) | Silvermere Forest Products Inc. | Sinclar Enterprises Ltd. | Skagit Industries | Skaha Forest Products Ltd. | Skana Forest Products Ltd. | Slocan Forest Products Ltd. | Societe en Commandite Scierie Opitciwan | Solid Wood Products Inc. | South Beach Trading Inc. | South-East Forest Products Ltd. | Spray Lake Sawmills (1980) Ltd. | Spray Lake Sawmills Ltd. | Springer Creek Forest Products Ltd. | Spruce Forest Products Ltd. | Spruce Products | Spruceland Millworks (Alberta) | Spruceland Millworks Inc. | St. Anthony Lathing Ltd. | Stag Timber | Stuart Lake Lumber Co. Ltd. | Stuart Lake Marketing Co. Ltd. | Stuart Lake Marketing Corporation (aka Stuart Lake Marketing Inc.) | Suncoast Lumber & Milling | Suncoast Lumber & Milling (div. of 407 Holdings Ltd.) | Sundance Forest Industries Ltd. | Swiftwood Forest Products Limited | Sylvanex Lumber Products Inc. | Synergy Pacific Engineered Timber Ltd. | T.F. Specialty Sawmill | T.P. Downey & Sons Ltd. | Taiga Building Products | Taiga Forest Products | Tall Tree Lumber Co. | Taylor Lumber Company Ltd. (Taylor Lumber Co. Ltd., Taylor Lumber Company Limited) | Teal Cedar Products Ltd. | Teal-Jones Group | Teal-Jones Sales Ltd. | Teeda Corp | Tembec Inc. | Tembec Industries Inc. | Terminal Forest Products (Terminal Sawmill Division) | Terminal Forest Products Ltd. | TFL Forest Ltd. (aka TimberWest Forest Corp. and Timber West Forest Company) | The Pas Lumber Co. Ltd. | The Teal Jones Group-Stag Timber Division | Timber Ridge Forest Products Inc. | Timberworld Forest Products Inc. | T'loh Forest Products Limited Partnership | Tolko Industries Ltd. | Tolko Marketing & Sales Ltd. | Top Quality Lumber Ltd. | TPI Timber Products International (1975) Ltd. | Trans-Pacific Trading Ltd. | Treeline Wood Products Ltd. | Triad Forest Products, Ltd. | Triple Five Quality Wood Inc. | Twin Rivers Cedar Products Ltd. | Tyee Timber Products Ltd. | Uniforet Inc. | Uniforet Scierie-Pate Inc. | Uphill Wood Supply Inc. | UPM Bathurst | UPM Blackville | UPM Miramichi | UPM-Kymmene Miramichi Inc. | Usine Sartigan Inc. | Vancouver Specialty Cedar Products Ltd. | Vanderhoof Specialty Wood Products Inc. | Vandermeer Forest Products (Canada) Ltd. | Vanderwell Contractors (1971) Ltd. | Vanport Canada, Co. | Velcan Forest Products Inc. | Vernon Kiln and Millwork Ltd. | Visscher Lumber Inc. | W.I. Woodtone Industries Inc. | Wakefield Cedar Ltd. | Wakefield Cedar Products Ltd. | Welco Lumber Corporation | Weldwood of Canada Ltd. | Wentworth Lumber Ltd. | West Bay Forest Products and Manufacturing Ltd. | West Chilcotin Forest Products Ltd. | West Fraser Mills Ltd. | Western Forest Products Inc. | Western Forest Products Limited | Westex Timber Mills Ltd | Westmark Products Ltd. | Weston Forest Corp. | Westshore Specialties Ltd. (dba Sunbury Cedar Sales) | West-Wood Industries Ltd. | Westwood Manufacturing Ltd. | Weyerhaeuser Company | Weyerhaeuser Company Limited | Weyerhaeuser Saskatchewan Limited | WFP Forest Products Limited | WFP Lumber Sales Limited | WFP Western Lumber Ltd. | Wilfrid Paquet & Fils Ltee | Williams Brothers Limited | Williamsburg Woods & Garden Inc. | Winnipeg Forest Products, Inc. | Winton Global Lumber Ltd. | Woodko Enterprises, Ltd. | Woodline Forest Products Ltd. | Woodtone Industries Inc. | Woodwise Lumber Limited | Wynndel Box & Lumber Co. Ltd.
Republic of Korea: Certain Polyester Staple Fiber, A-580-839 | 5/1/05-4/30/06. | Huvis Corporation | Dongwoo Industry Company
Taiwan: Polyester Staple Fiber, A-583-833 | 5/1/05-4/30/06. | Far Eastern Textile Ltd.

| Period/class or kind
Antifriction Bearings Proceedings and Firms Period/Class or Kind
France: A-427-801 | 5/1/05-4/30/06
SKF France S.A. and SKF Aerospace France | Ball
SNR Roulements | Ball
Alcatel Vacuum Technology | Ball
INA | Ball
Germany: A-428-801 | 5/1/05-4/30/06
ABB Turbo Systems Limited | Ball
Gabreuder Reinfort GmbH & Co., KG | Ball
INA-Schaeffler KG | Ball
NTN Kugellagerfabrik (Deutschland) Gmbh | Ball
SKF GmbH | Ball
Italy: A-475-801 | 5/1/05-4/30/06
FAG Italia S.p.A | Ball
SKF Industrie S.p.A | Ball
Japan: A-588-804 | 5/1/05-4/30/06
Aisin Seiki Company, Ltd | Ball
Asahi Seiko Co., Ltd | Ball
Canon, Inc. | Ball
JTEKT Corporation (formerly known as Koyo Seiko Co., Ltd) | Ball
Minebea Co., Ltd | Ball
Mori Seiki Co., Ltd | Ball
Nachi-Fujikoshi Corporation | Ball
Nankai Seiko Co., Ltd | Ball
Nippon Pillow Block Company, Ltd | Ball
NSK Ltd | Ball
NTN Corporation | Ball
Osaka Pump Co., Ltd | Ball
Takeshita Seiko, Co., Ltd | Ball
Tottori Yamakai Bearing Seisakusho, Ltd | Ball
Sapporo Precision, Inc | Ball
Toyota Industries Corporation | Ball
Singapore: A-599-801 | 5/1/05-4/30/06
NMB/Pelmec | Ball
United Kingdom: A-412-801 | 5/1/05-4/30/06
Alcatel Vacuum Technology | Ball
NSK Bearings Europe | Ball
The Barden Corporation (U.K.), Ltd | Ball
SKF Aeoengine Bearings UK | Ball
Countervailing Duty Proceedings
Canada: Certain Softwood Lumber, C-122-839 | 4/1/05-3/31/06
Suspension Agreements
None
¹ For the antidumping duty review of certain softwood lumber from Canada (A-122-838), firms should be advised that they have 30 days from the date of publication of this notice to make the Department of Commerce (the Department) aware of any corrections that need to be made to their company's name. The names appear here exactly as they will be identified to U.S. Customs and Border Protection (CBP). Corrections may include alternative spellings, and any additional names which a company uses to identify itself to CBP. This is not, however, an opportunity to include in the review additional firms for which a review was not requested. The Department may not be able to consider changes requested after the 30 day period has elapsed, and under no circumstances will any such changes result in a change to the automatic liquidation instructions.

During any administrative review covering all or part of a period falling between the first and second or third and fourth anniversary of the publication of an antidumping duty order under 19 CFR 351.211 or a determination under 19 CFR 351.218(f)(4) to continue an order or suspended investigation (after sunset review), the Secretary, if requested by a domestic interested party within 30 days of the date of publication of the notice of initiation of the review, will determine, consistent with FAG Italia v. United States, 291 F.3d 806 (Fed. Cir. 2002), as appropriate, whether antidumping duties have been absorbed by an exporter or producer subject to the review if the subject merchandise is sold in the United States through an importer that is affiliated with such exporter or producer. The request must include the name(s) of the exporter or producer for which the inquiry is requested.

Interested parties must submit applications for disclosure under administrative protective orders in accordance with 19 CFR 351.305.

These initiations and this notice are in accordance with section 751(a) of the Tariff Act of 1930, as amended (19 U.S.C. 1675(a)), and 19 CFR 351.221(c)(1)(i).

Dated: June 28, 2006.
Thomas F. Futtner,
Acting Office Director, AD/CVD Operations, Office 4, Import Administration.

[FR Doc. E6-10381 Filed 6-30-06; 8:45 am]

BILLING CODE 3510-DS-P